DEPARTMENT OF THE INTERIOR

National Park Service

[NPS-WASO-NAGPRA-NPS0037229; PPWOCRADN0-PCU00RP14.R50000]

Notice of Inventory Completion: University of Rhode Island, South Kingstown, RI

AGENCY: National Park Service, Interior.

ACTION: Notice.

SUMMARY: In accordance with the Native American Graves Protection and Repatriation Act (NAGPRA), the University of Rhode Island, South Kingstown, RI (URI) has completed an inventory of human remains and associated funerary objects and has determined that there is a cultural affiliation between the human remains and associated funerary objects and Indian Tribes or Native Hawaiian organizations in this notice. The human remains and associated funerary objects were removed from Bristol County, RI; Barnstable County, MA; Nantucket County, MA; and Plymouth County, MA.

DATES: Repatriation of the human remains and associated funerary objects in this notice may occur on or after February 12, 2024.

ADDRESSES: Kristine M. Bovy, University of Rhode Island, Dept. of Sociology & Anthropology, 508 Chafee Hall, Kingston, RI 02881, telephone (401) 874-4143, email kbovy@uri.edu and Fiona Jones, University of Rhode Island, 232 Chafee Hall, Kingston, RI 02881, telephone (860) 338-4288, email fionaj@uri.edu.

SUPPLEMENTARY INFORMATION: This notice is published as part of the National Park Service's administrative responsibilities under NAGPRA. The determinations in this notice are the sole responsibility of the University of Rhode Island. The National Park Service is not responsible for the determinations in this notice. Additional information on the determinations in this notice, including the results of consultation, can be found in the inventory or related records held by the University of Rhode Island.

Description

Harding Estates Site (RI-1755)

Human remains representing, at minimum, one individual were removed from Bristol County, RI. From late 1987 to mid-1988, the Public Archaeology Program (Rhode Island College) conducted Phase I through III survey of the future Harding Estates condominiums in the town of Bristol, RI. This site was designated as RI-1755.

In May of 1988, upon returning for Phase II excavation, the archeologists learned that a human burial had been discovered during bulldozing for an access road. The bulldozing took place in between Phase I and Phase II; archaeologists were not present at the time. The access road where the burial was recovered was not within the initial survey region. The Bristol Police and Rhode Island Historic Preservation Commission (RIHPC) were immediately contacted by the archaeologists. It was determined that the human remains should be transferred to Dr. Marc Kelley, a professor of biological anthropology at URI for evaluation.

Radiocarbon dating on artifacts found outside of the burial context concluded the site to date to the transitional Archaic-Woodland period. After inventorying in 2022, it was determined that there is, at minimum, one individual represented. The two associated funerary objects are two shell fragments.

Seneca Road Site (MAS-HA-15)

Human remains representing, at minimum, one individual were removed from Barnstable County, MA. In May of 1990, the Massachusetts Historical Commission (MHC) excavated the Seneca Road Site (MAS-HA-15) after a burial was disturbed during housing construction. Textiles were recovered from an unmarked grave dating to the 18th or 19th century. The textiles were transferred from the MHC to the University of Rhode Island (URI) for conservation, study, and curation. Hair and cranium fragments of one individual were not initially recognized and inadvertently sent to URI along with the textiles. The 21 associated funerary objects are lots of textile fragments.

Abrams Point II Site (NAN-HA-10)

In 1992, 11 associated funerary objects were removed from Nantucket County, MA. During the construction of homes in Nantucket County, MA, 20 graves were disturbed. This site was later excavated by the Massachusetts Historical Commission (MHC) and named the Abrams Point II Site (NAN-HA-10). It was determined that the burials most likely dated to the 18th century. One burial contained nine buttons, textiles, and fragments of a woven mat. These associated funerary objects were transferred to the University of Rhode Island for further analysis and preservation. No human remains from this site were transferred to the University of Rhode Island. The 11 associated funerary objects are nine buttons, one lot of woven mat fragments, and one lot of textile fragments.

Santuit Pond Road Site (MSH-HA-4)

In May of 1988, three associated funerary objects were removed from Barnstable County, MA. During housing construction, the burial of one individual was recovered by the Massachusetts Historical Commission (MHC). The site was later named the Santuit Pond Road Site (MSH-HA-4). It was determined that the site most likely dated to the 18th or 19th century. The individual recovered was determined to be Native American. Textiles were found within the burial and were sent to URI in 1991 for analysis and preservation. No human remains from this site were transferred to the University of Rhode Island. The three associated funerary objects are three lots of textile fragments.

Descas Site

Human remains representing, at minimum, two individuals were removed from Plymouth County, MA. The Decas Site was excavated in Rochester, MA, from 1962 to 1964 by members of the Massachusetts Archaeological Society (MAS). At an unknown time during the excavations, a cremation burial was recovered. A cranium was recovered, and the associated unidentifiable bone fragments and ashes were stored in a box. Subsequently, a member of the MAS gave the human remains to Carol Barnes, a professor of anthropology at Rhode Island College. The box has a label that reads: “Cremation burial Dekas Site, S.E Mass. Gift of Mr. Thomas (C. Barnes) Box 2 252-3-D, Skull also.” At this time no excavation reports from the MAS have been located, only short references in MAS annual bulletins. At an unknown time, the human remains were transferred to the University of Rhode Island. After inventorying in 2022, it was determined that there is a minimum of two individuals represented. No associated funerary objects are present.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: archeological information, geographical information, historical information, and expert opinion.

Determinations

Pursuant to NAGPRA and its implementing regulations, and after consultation with the appropriate Indian Tribes and Native Hawaiian organizations, the University of Rhode Island has determined that:

• The human remains described in this notice represent the physical remains of four individuals of Native American ancestry.

• The 37 objects described in this notice are reasonably believed to have been placed with or near individual human remains at the time of death or later as part of the death rite or ceremony.

• There is a relationship of shared group identity that can be reasonably traced between the human remains and associated funerary objects described in this notice and the Mashpee Wampanoag Tribe and the Wampanoag Tribe of Gay Head (Aquinnah), the only Federally recognized Indian Tribes of the Wampanoag Tribes.

Requests for Repatriation

Written requests for repatriation of the human remains and associated funerary objects in this notice must be sent to the Responsible Official identified in ADDRESSES. Requests for repatriation may be submitted by:

1. Any one or more of the Indian Tribes or Native Hawaiian organizations identified in this notice and, if joined to a request from one or more of the Indian Tribes, Indian groups without Federal recognition that are a part of the Wampanoag Tribes.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after February 12, 2024. If competing requests for repatriation are received, the University of Rhode Island must determine the most appropriate requestor prior to repatriation. Requests for joint repatriation of the human remains and associated funerary objects are considered a single request and not competing requests. The University of Rhode Island is responsible for sending a copy of this notice to the Indian Tribes and Native Hawaiian organizations identified in this notice.

Authority: Native American Graves Protection and Repatriation Act, 25 U.S.C. 3003, and the implementing regulations, 43 CFR 10.9, § 10.10, and § 10.14.

Dated: January 5, 2024.
Melanie O'Brien,
Manager, National NAGPRA Program.

[FR Doc. 2024-00526 Filed 1-11-24; 8:45 am]

BILLING CODE 4312-52-P